DEPARTMENT OF EDUCATION

Advisory Committee on Student Financial Assistance, Hearing

AGENCY: Advisory Committee on Student Financial Assistance, Education.

ACTION: Notice of upcoming hearing.

SUMMARY: This notice sets forth the schedule and proposed agenda of a forthcoming hearing of the Advisory Committee on Student Financial Assistance. Individuals who will need accommodations for a disability in order to attend the meeting (i.e., interpreting services, assistive listening devices, and/or materials in alternative format) should notify Ms. Hope M. Gray at (202) 219-2099 or via e-mail at hope.gray@ed.gov no later than Thursday, January 29, 2004. We will attempt to meet requests after this date, but cannot guarantee availability of the requested accommodation. The meeting site is accessible to individuals with disabilities. This notice also describes the functions of the Committee. Notice of this meeting is required under section 10(a)(2) of the Federal Advisory Committee Act. This document is intended to notify the general public.

Dates and Times: Thursday, February 5, 2004, beginning at 9 a.m. and ending at approximately 5 p.m.

ADDRESSES: The Holiday Inn on the Hill, 415 New Jersey Avenue, NW., the Federal South Room, Washington, DC 20001.

FOR FURTHER INFORMATION CONTACT: Dr. Brian K. Fitzgerald, Staff Director, Advisory Committee on Student Financial Assistance, Capitol Place, 80 F Street, NW., Suite 413, Washington, DC 20202-7582 (202) 219-2099.

SUPPLEMENTARY INFORMATION: The Advisory Committee on Student Financial Assistance is established under section 491 of the Higher Education Act (HEA) of 1965 as amended by Pub. L. 100-50 (20 U.S.C. 1098). The Advisory Committee serves as an independent source of advice and counsel to the Congress and the Secretary of Education on student financial aid policy. Since its inception, the Committee has been charged with providing technical expertise with regard to systems of need analysis and application forms, making recommendations that result in the maintenance of access to postsecondary education for low- and middle-income students; conducting a study of institutional lending in the Stafford Student Loan Program; assisting with activities related to the 1992 reauthorization of the Higher Education Act of 1965; conducting a three-year evaluation of the Ford Federal Direct Loan Program (FDLP) and the Federal Family Education Loan Program (FFELP) under the Omnibus Budget Reconciliation Act (OBRA) of 1993; and assisting Congress with the 1998 reauthorization of the Higher Education Act.

The congressional mandate requires the Advisory Committee to conduct objective, nonpartisan, and independent analyses on important aspects of the student assistance programs under Title VI of the Higher Education Act. The Committee traditionally approaches its work from a set of fundamental goals: Promoting access; ensuring program integrity; integrating delivery across the Title IV programs; eliminating or avoiding program complexity; and minimizing burden on students and institutions.

The most important charge of the Advisory Committee is to make recommendations to Congress and the Secretary that will lead to the maintenance and enhancement of access to postsecondary education for low- and middle-income students. In addition to carrying out its ongoing statutory charges, the Committee dedicated itself to articulating the current state of access by developing two reports on the condition of access, Access Denied: Restoring the Nation's Commitment to Equal Educational Opportunity and Empty Promises: The Myth of College Access in America. As a result of the findings in its access reports, the Committee submitted its access proposal to Congress in May 2003 in preparation for reauthorization of the Higher Education Act. The Committee will review and evaluate, from an access perspective, other reauthorization proposals and ideas emanating from Congress and the higher education community.

The proposed agenda includes discussion sessions with congressional staff, Department of Education officials, and members of the higher education community focusing on the need for simplification of need analysis, forms and delivery of student aid. Specifically, the hearing will initiate an Advisory Committee simplification study conducted at the request of Congress. The hearing will explore (a) congressional interests and proposals for simplification, (b) perspectives of the higher education community and specific problems, including annual updates to the state tax allowances, (c) the student work penalty, and (d) early notification of student aid eligibility. Space is limited and you are encouraged to register early if you plan to attend. You may register through the Internet at ADV_COMSFA@ed.gov or Tracy.Deanna.Jones@ed.gov. Please include your name, title, affiliation, complete address (including Internet and e-mail—if available), and telephone and fax numbers. If you are unable to register electronically, you may mail or fax your registration information to the Advisory Committee staff office at (202) 219-3032. Also, you may contact the Advisory Committee staff at (202) 219-2099. The registration deadline is Friday, January 30, 2004.

The Advisory Committee will meet in Washington, DC on Thursday, February 5, 2004, from 9 a.m. until approximately 5 p.m.

Record are kept of all Committee proceedings, and are available for public inspection at the Office of the Advisory Committee on Student Financial Assistance, Capitol Place, 80 F Street, NW., Suite 413, Washington, DC from the hours of 9 a.m. to 5:30 p.m., weekdays, except Federal holidays.

Dated: January 8, 2004.
Brian K. Fitzgerald,
Staff Director, Advisory Committee on Student Financial Assistance.

[FR Doc. 04-723 Filed 1-13-04; 8:45 am]

BILLING CODE 4000-01-M